DEPARTMENT OF HOMELAND SECURITY

Coast Guard

33 CFR Part 117

[Docket No. USCG-2016-0469]

Drawbridge Operation Regulation; Hood Canal, Port Gamble, WA

AGENCY: Coast Guard, DHS.

ACTION: Notice of deviation from drawbridge regulation.

SUMMARY: The Coast Guard has issued a temporary deviation from the operating schedule that governs the Hood Canal Floating Drawbridge across Hood Canal (Admiralty Inlet), mile 5.0, near Port Gamble, WA. This deviation allows the bridge to open the Main span half-way, 300 feet; as opposed to a full opening, which is 600 feet to allow for the replacement of bridge anchor cables for this section of the bridge.

DATES: This deviation is effective from 6 a.m. on August 1, 2016, until 7 p.m. on October 15, 2016.

ADDRESSES: The docket for this deviation, [USCG-2016-0469] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington Department of Transportation (WSDOT) has requested that the Hood Canal Floating Drawbridge be allowed to only open half of the Main span from 6 a.m. on August 1, 2016 until 7 p.m. on October 15, 2016 to facilitate safe and uninterrupted bridge anchor cable replacements. The Hood Canal Floating Drawbridge crosses Hood Canal, mile 5.0, near Port Gamble, WA. The bridge has two fixed spans (East and West), and one draw span (Main). The East span provides 50 feet of vertical clearance, the West span provides 35 feet of vertical clearance and the Main span provides zero feet of vertical clearance in the closed-to-navigation position. The Main span provides unlimited vertical clearance in the open-to-navigation position. Vertical clearances are referenced to mean high-water elevation.

The deviation period allows the Main span of the Hood Canal Floating Drawbridge across Hood Canal, mile 5.0, to only open half-way from 6 a.m. on August 1, 2016 until 7 p.m. on October 15, 2016.

During the time of the deviation, the drawbridge will not be able to operate according to the normal operating schedule. The normal operating schedule for the bridge is in accordance with 33 CFR 117.1045. The bridge shall operate in accordance to 33 CFR 117.1045 at all other times. Waterway usage on this part of Hood Canal includes commercial tugs and barges, U.S. Navy vessels, and small pleasure craft. Coordination has been completed with known waterway users, and no objections to the deviation have been received.

Vessels able to pass through the East and West spans may do so at anytime. The Main span does not provide passage in the closed-to-navigation position. The bridge will be able to open half the Main span for Navy vessels during emergencies, when requested by the Department of the Navy. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 1, 2016.
Steven M. Fischer,
Bridge Administrator, Thirteenth Coast Guard District.

[FR Doc. 2016-13359 Filed 6-6-16; 8:45 am]

BILLING CODE 9110-04-P